ENVIRONMENTAL PROTECTION AGENCY

40 CFR Part 52

[EPA-R05-OAR-2022-0352; EPA-R05-OAR-2023-0093; FRL-9995-02-R5]

Air Plan Approval; Ohio; 2015 Ozone Moderate Reasonably Available Control Technology

AGENCY: Environmental Protection Agency (EPA).

ACTION: Final rule.

SUMMARY: The Environmental Protection Agency (EPA) is approving revisions to Ohio Administrative Code (OAC) Chapters 3745-21 and 3745-110 into the Ohio State Implementation Plan (SIP). The Ohio Environmental Protection Agency (“Ohio” or “Ohio EPA”) submitted these revisions on March 30, 2022, and supplemented the submittal on February 1, 2023, and August 28, 2023. The EPA is approving parts of OAC Chapters 3745-21 and 3745-110 as satisfying some of the Moderate Volatile Organic Compound (VOC) Reasonably Available Control Technology (RACT) and Nitrogen Oxide (NOX) RACT requirements for the Cleveland, OH nonattainment area (Cuyahoga, Geauga, Lake, Lorain, Medina, Portage, and Summit counties) under the 2015 ozone National Ambient Air Quality Standard (“NAAQS” or “standard”) and as SIP strengthening for Ashtabula County and the Ohio portion of the Cincinnati, OH-KY maintenance area (Butler, Clermont, Hamilton, and Warren counties). The EPA is also approving Table (M)(1) in OAC rule 3745-21-07 into the SIP, with the exception of the row for The Ruscoe Company. Finally, the EPA is approving OAC rule 3745-15-03, submitted by Ohio on February 9, 2023, and supplemented on December 1, 2023, and December 30, 2024. The EPA proposed to approve this action on August 28, 2025 and received two comments.

DATES: This final rule is effective on February 19, 2026.

ADDRESSES: The EPA has established a docket for this action under Docket ID Nos. EPA-R05-OAR-2022-0352 and EPA-R05-OAR-2023-0093. All documents in the docket are listed on the https://www.regulations.gov website. Although listed in the index, some information is not publicly available, i.e., Confidential Business Information (CBI), Proprietary Business Information (PBI), or other information whose disclosure is restricted by statute. Certain other material, such as copyrighted material, is not placed on the internet and will be publicly available only in hard copy form. Publicly available docket materials are available either through https://www.regulations.gov or at the Environmental Protection Agency, Region 5, Air and Radiation Division, 77 West Jackson Boulevard, Chicago, Illinois 60604. This facility is open from 8:30 a.m. to 4:30 p.m., Monday through Friday, excluding Federal holidays. We recommend that you telephone Katie Caskey, at (312) 353-3490 before visiting the Region 5 office.

FOR FURTHER INFORMATION CONTACT: Katie Caskey, Air and Radiation Division (AR18J), Environmental Protection Agency, Region 5, 77 West Jackson Boulevard, Chicago, Illinois 60604, (312) (312) 353-3490, Caskey.Kathleen@epa.gov.

SUPPLEMENTARY INFORMATION: Throughout this document whenever “we,” “us,” or “our” is used, we mean the EPA.

I. Background Information

On August 28, 2025 (90 FR 41925), the EPA proposed to approve parts of OAC Chapters 3745-21 and 3745-110 as satisfying some of the Moderate VOC RACT requirements of 182(b)(2) and NOX RACT requirements of 182(f) of the Clean Air Act (CAA), respectively, for the Cleveland, OH nonattainment area under the 2015 ozone standard. The EPA also proposed to approve OAC 3745-21-11 and 3745-110-03(J) as SIP strengthening measures for the Cleveland nonattainment area. In addition, the EPA proposed to approve OAC Chapter 3745-21 and 3745-110-03(J) as SIP strengthening for Ashtabula County and the Ohio portion of the Cincinnati, OH-KY maintenance area (Butler, Clermont, Hamilton, and Warren counties) under the 2015 ozone standard. Finally, the EPA proposed to approve OAC rule 3745-15-03, which sets forth reporting requirements for sources in Ohio. An explanation of the CAA requirements, a detailed analysis of the revisions, and the EPA's reasons for proposing approval were provided in the notice of proposed rulemaking, and will not be restated here.

II. Public Comments

The EPA provided a 30-day review and comment period for this action in the Proposal. The comment period ended on September 29, 2025. The EPA received two comments, which are summarized and addressed below.

Comment: The commenter opposes approval of Ohio's SIP, stating that “Ohio is a failed state that is unable to clean the air.” The commenter further contends that if an area is in nonattainment, the top 100 polluters in the State should be required to shut down until air quality meets the National Standards.

Response: This action is limited to assessing whether the regulations submitted by the State of Ohio and associated analysis are sufficient to meet the requirements under CAA section 182 related to the requirement to implement reasonably available control technology for defined emission sources. The commenter has not provided any information that calls into question the sufficiency of the Ohio SIP at issue here. This rule fulfills RACT requirements stemming from sections 182(b)(2) and 182(f) of the CAA, which will continue to improve air quality in the area.

Comment: Ohio EPA requests that the EPA not approve the addition of “TRC Buyer Co. dba “The Ruscoe Company” Plant II” (fac ID 1677010204) into the Ohio SIP. This facility is listed in the table of affected facilities in paragraph (M)(1) of OAC rule 3745-21-07, which regulates facilities using liquid organic materials and requires at least 85% VOC control efficiency.

In its comment, Ohio EPA noted that the Ruscoe Company's emissions units were mistakenly retained in the final rulemaking despite Ohio's intent to remove them. These emissions units—mixers P025, P026, P028, P030, P031, P032, P033, P034, P035, and P036—perform only mixing and blending of sealant and adhesive components, with no chemical reactions occurring.

Response: The EPA acknowledges Ohio's statement that the “TRC Buyer Co. dba “The Ruscoe Company” Plant II” (fac ID 1677010204) was erroneously included in the table of affected sources in OAC R 3745-21-07(M), and Ohio EPA's intention that these facilities not be subject to the rule. The EPA further acknowledges Ohio EPA's request that the EPA not approve the addition of “TRC Buyer Co. dba “The Ruscoe Company” Plant II” (fac ID 1677010204) into the Ohio SIP. The EPA is therefore approving OAC R 3745-21-07(M) with the exception of “TRC Buyer Co. dba “The Ruscoe Company” Plant II (fac ID 1677010204)” in this rulemaking.

III. What action is the EPA taking?

The EPA is approving parts of OAC Chapters 3745-21 as satisfying some of the Moderate VOC RACT requirements of 182(b)(2) of the CAA for the Cleveland, OH nonattainment area under the 2015 ozone standard. The EPA is approving parts of OAC Chapter 3745-110 as satisfying some of the Moderate NOx RACT requirements of 182(f) of the CAA for the Cleveland, OH nonattainment area under the 2015 ozone standard. The EPA is approving OAC 3745-21-11 and 3745-110-03(J) as SIP strengthening measures for the Cleveland, OH nonattainment area under the 2015 ozone standard. The EPA is approving OAC Chapter 3745-21 and 3745-110-03(J) as SIP strengthening for Ashtabula County and the Ohio portion of the Cincinnati, OH-KY maintenance area under the 2015 ozone standard. The EPA is approving OAC 3745-21-07(M)(1), except for the row of the table referencing “TRC Buyer Co. dba “The Ruscoe Company” Plant II” (fac ID 1677010204). Finally, the EPA is approving OAC rule 3745-15-03, which sets forth reporting requirements for sources in Ohio.

IV. Incorporation by Reference

In this rule, the EPA is finalizing regulatory text that includes incorporation by reference. In accordance with requirements of 1 CFR 51.5, the EPA is finalizing the incorporation by reference of the Ohio Regulations described in section III. of this preamble and set forth in the amendments to 40 CFR part 52 below. The EPA has made, and will continue to make, these documents generally available through https://www.regulations.gov, and at the EPA Region 5 Office (please contact the person identified in the FOR FURTHER INFORMATION CONTACT section of this preamble for more information). Therefore, these materials have been approved by the EPA for inclusion in the SIP, have been incorporated by reference by the EPA into that plan, are fully federally enforceable under sections 110 and 113 of the CAA as of the effective date of the final rulemaking of the EPA's approval, and will be incorporated by reference in the next update to the SIP compilation.¹

¹ 62 FR 27968 (May 22, 1997).

V. Statutory and Executive Order Reviews

Under the CAA, the Administrator is required to approve a SIP submission that complies with the provisions of the CAA and applicable Federal regulations. 42 U.S.C. 7410(k); 40 CFR 52.02(a). Thus, in reviewing SIP submissions, the EPA's role is to approve State choices, provided that they meet the criteria of the CAA. Accordingly, this action merely approves State law as meeting Federal requirements and does not impose additional requirements beyond those imposed by State law. For that reason, this action:

• Is not a significant regulatory action subject to review by the Office of Management and Budget under Executive Order 12866 (58 FR 51735, October 4, 1993);

• Is not subject to Executive Order 14192 (90 FR 9065, February 6, 2025) because SIP actions are exempt from review under Executive Order 12866;

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have federalism implications as specified in Executive Order 13132 (64 FR 43255, August 10, 1999);

• Is not subject to Executive Order 13045 (62 FR 19885, April 23, 1997) because it approves a State program;

• Is not a significant regulatory action subject to Executive Order 13211 (66 FR 28355, May 22, 2001); and

• Is not subject to requirements of section 12(d) of the National Technology Transfer and Advancement Act of 1995 (15 U.S.C. 272 note) because application of those requirements would be inconsistent with the CAA.

In addition, the SIP is not approved to apply on any Indian reservation land or in any other area where the EPA or an Indian Tribe has demonstrated that a Tribe has jurisdiction. In those areas of Indian country, the rule does not have Tribal implications and will not impose substantial direct costs on Tribal governments or preempt Tribal law as specified by Executive Order 13175 (65 FR 67249, November 9, 2000).

This action is subject to the Congressional Review Act, and the EPA will submit a rule report to each House of the Congress and to the Comptroller General of the United States. This action is not a “major rule” as defined by 5 U.S.C. 804(2).

Under section 307(b)(1) of the CAA, petitions for judicial review of this action must be filed in the United States Court of Appeals for the appropriate circuit by March 23, 2026. Filing a petition for reconsideration by the Administrator of this final rule does not affect the finality of this action for the purposes of judicial review nor does it extend the time within which a petition for judicial review may be filed, and shall not postpone the effectiveness of such rule or action. This action may not be challenged later in proceedings to enforce its requirements. (See section 307(b)(2).)

List of Subjects in 40 CFR Part 52

Environmental protection, Air pollution control, Incorporation by reference, Intergovernmental relations, Nitrogen oxides, Ozone, Volatile organic compounds.

Dated: December 18, 2025.
Cheryl Newton,
Acting Regional Administrator, Region 5.

For the reasons stated in the preamble, title 40 CFR part 52 is amended as follows:

PART 52—APPROVAL AND PROMULGATION OF IMPLEMENTATION PLANS

1. The authority citation for part 52 continues to read as follows:

Authority: 42 U.S.C. 7401 et seq.

2. In § 52.1870, the table in paragraph c is amended by revising the entries under “Chapter 3745-21 Carbon Monoxide, Ozone, Hydrocarbon Air Quality Standards, and under “Chapter 3745-110—Nitrogen Oxides—Reasonably Available Control Technology Related Emission Requirements” to read as follows:

§ 52.1870 Identification of plan.

* * * * *

(c) * * *

EPA—Approved OHIO Regulations
Ohio citation | Title/subject | Ohio effective date | EPA approval date | Notes
* * * * * * *
Chapter 3745-21 Carbon Monoxide, Ozone, Hydrocarbon Air Quality Standards, and Related Emission Requirements
3745-21-01 | Definitions and incorporation by reference | 3/27/2022 | 1/20/2026, 90 FR [Insert Federal Register page where the document begins]
3745-21-02 | Ambient air quality standards and guidelines | 8/25/2008 | 7/28/2009, 74 FR 37171
3745-21-03 | Methods of ambient air quality measurement | 10/15/2015 | 9/8/2017, 82 FR 42451
3745-21-04 | Compliance time schedules | 3/27/2022 | 1/20/2026, 90 FR [Insert Federal Register page where the document begins]
3745-21-06 | Classification of regions | 8/25/2008 | 7/28/2009, 74 FR 37171 | 3745-21-06.
3745-21-07 | Control of emissions of organic materials from stationary sources (i.e., emissions that are not regulated by rule 3745-21-09, 3745-21-12 to 3745-21-16, or 3745-21-18 to 3745-21-29 of the Administrative Code) | 3/27/2022 | 1/20/2026, 90 FR [Insert Federal Register page where the document begins] | All except the entry for “TRC Buyer Co. dba “The Ruscoe Company” Plant II” in table (M)(1) Emissions Units under OAC 3745-21-07(M)(1).
3745-21-08 | Control of carbon monoxide emissions from stationary sources | 10/15/2015 | 9/8/2017, 82 FR 42451 | 3745-21-08.
3745-21-09 | Control of emissions of volatile organic compounds from stationary sources and perchloroethylene from dry cleaning facilities | 3/27/2022 | 1/20/2026, 90 FR [Insert Federal Register page where the document begins]
3745-21-10 | Compliance test methods and procedures | 3/27/2022 | 1/20/2026, 90 FR [Insert Federal Register page where the document begins]
3745-21-11 | Reasonably available control technology studies for non-CTG Sources in ozone nonattainment areas | 3/27/2022 | 1/20/2026, 90 FR [Insert Federal Register page where the document begins]
3745-21-12 | Control of volatile organic compound emissions from commercial bakery oven facilities | 10/15/2015 | 9/8/2017, 82 FR 42451
3745-21-13 | Control of volatile organic compound emissions from reactors and distillation units employed in SOCMI chemical production | 10/15/2015 | 9/8/2017, 82 FR 42451
3745-21-14 | Control of volatile organic compound emissions from process vents in batch operations | 10/15/2015 | 9/8/2017, 82 FR 42451
3745-21-15 | Control of volatile organic compound emissions from wood furniture manufacturing operations | 3/27/2022 | 1/20/2026, 90 FR [Insert Federal Register page where the document begins]
3745-21-16 | Control of volatile organic compound emissions from industrial wastewater | 10/15/2015 | 9/8/2017, 82 FR 42451
3745-21-17 | Portable fuel containers | 10/15/2015 | 9/8/2017, 82 FR 42451
3745-21-18 | Commercial motor vehicle and mobile equipment refinishing operations | 3/27/2022 | 1/20/2026, 90 FR [Insert Federal Register page where the document begins]
3745-21-19 | Control of volatile organic compound emissions from aerospace manufacturing and rework facilities | 3/27/2022 | 1/20/2026, 90 FR [Insert Federal Register page where the document begins]
3745-21-20 | Control of volatile organic emissions from shipbuilding and ship repair operations (marine coatings) | 3/27/2022 | 1/20/2026, 90 FR [Insert Federal Register page where the document begins]
3745-21-21 | Storage of volatile organic liquids in fixed roof tanks and external floating roof tanks | 3/27/2022 | 1/20/2026, 90 FR [Insert Federal Register page where the document begins]
3745-21-22 | Control of volatile organic compound emissions from offset lithographic printing and letterpress printing facilities | 3/27/2022 | 1/20/2026, 90 FR [Insert Federal Register page where the document begins]
3745-21-23 | Control of volatile organic compound emissions from industrial solvent cleaning operations | 3/27/2022 | 1/20/2026, 90 FR [Insert Federal Register page where the document begins]
3745-21-24 | Flat wood paneling coatings | 3/27/2022 | 1/20/2026, 90 FR [Insert Federal Register page where the document begins]
3745-21-25 | Control of VOC emissions from reinforced plastic composites production operations | 3/27/2022 | 1/20/2026, 90 FR [Insert Federal Register page where the document begins]
3745-21-26 | Surface coating of miscellaneous metal and plastic parts | 3/27/2022 | 1/20/2026, 90 FR [Insert Federal Register page where the document begins]
3745-21-27 | Boat manufacturing | 3/27/2022 | 1/20/2026, 90 FR [Insert Federal Register page where the document begins]
3745-21-28 | Miscellaneous industrial adhesives and sealants | 3/27/2022 | 1/20/2026, 90 FR [Insert Federal Register page where the document begins]
3745-21-29 | Control of volatile organic compound emissions from automobile and light-duty truck assembly coating operations, heavier vehicle assembly coating operations, and cleaning operations associated with these coating operations | 3/27/2022 | 1/20/2026, 90 FR [Insert Federal Register page where the document begins]
* * * * * * *
Chapter 3745-110—Nitrogen Oxides—Reasonably Available Control Technology
3745-110-01 | Definitions | 3/25/2022 | 1/20/2026, 90 FR [Insert Federal Register page where the document begins]
3745-110-02 | Applicability | 3/25/2022 | 1/20/2026, 90 FR [Insert Federal Register page where the document begins]
3745-110-03 | RACT requirements and/or limitations for emissions of NOX from stationary sources | 3/25/2022 | 1/20/2026, 90 FR [Insert Federal Register page where the document begins]
3745-110-04 | Compliance Deadlines | 3/25/2022 | 1/20/2026, 90 FR [Insert Federal Register page where the document begins]
3745-110-05 | Compliance Methods | 3/25/2022 | 1/20/2026, 90 FR [Insert Federal Register page where the document begins]
* * * * * * *

* * * * *

3. In § 52.1870, the table in paragraph (d) is amended by adding a new entry for “Smallwood” after the entry for “Reilly Industries, Inc” and a new entry for “Wylie Compressor” after the entry for “Wheeling-Pittsburg Steel Corporation” to read as follows:

(d) * * *

EPA—Approved Ohio Source-Specific Provisions
Name of source | No. | Ohio effective Date | EPA approval date | Comments
* * * * * * *
Smallwood | P0130909 | 11/10/2021 | 1/20/2026, 90 FR [Insert Federal Register page where the document begins] | Only sections C.1.b)(1)e., C.1.b)(2)b., C.1.c)(3), C.1.d)(7) and C.1.e)(5).
* * * * * * *
Wylie Compressor | P0129069 | 11/10/2021 | 1/20/2026, 90 FR [Insert Federal Register page where the document begins] | Only sections C.1.b)(1)e., C.1.b)(2)a., C.1.c)(2), C.1.d)(2) and C.1.e)(4).

* * * * *

[FR Doc. 2026-01001 Filed 1-16-26; 8:45 am]

BILLING CODE 6560-50-P